DEPARTMENT OF COMMERCE

National Telecommunications and Information Administration

Membership of the National Telecommunications and Information Administration's Performance Review Board

AGENCY: National Telecommunications and Information Administration, Department of Commerce.

ACTION: Notice of Membership on the National Telecommunications and Information Administration's Performance Review Board.

SUMMARY: In accordance with 5 U.S.C. § 4314(c)(4), the National Telecommunications and Information Administration (NTIA), Department of Commerce (DOC), announces the appointment of those individuals who have been selected to serve as members of NTIA's Performance Review Board. The Performance Review Board is responsible for (1) reviewing performance appraisals and rating of Senior Executive Service (SES) members and (2) making recommendations to the appointing authority on other performance management issues, such as pay adjustments, bonuses and Presidential Rank Awards for SES members. The appointment of these members to the Performance Review Board will be for a period of twenty-four (24) months.

DATES: The period of appointment for those individuals selected for NTIA's Performance Review Board begins on October 20, 2015.

FOR FURTHER INFORMATION CONTACT: Ruthie B. Stewart, Department of Commerce, Office of Human Resources Management, Office of Executive Resources, 14th and Constitution Avenue NW., Room 51010, Washington, DC 20230, at (202) 482-3130.

SUPPLEMENTARY INFORMATION: In accordance with 5 U.S.C. § 4314(c)(4), the National Telecommunications and Information Administration (NTIA), Department of Commerce (DOC), announces the appointment of those individuals who have been selected to serve as members of NTIA's Performance Review Board. The Performance Review Board is responsible for (1) reviewing performance appraisals and rating of Senior Executive Service (SES) members and (2) making recommendations to the appointing authority on other performance management issues, such as pay adjustments, bonuses and Presidential Rank Awards for SES members. The appointment of these members to the Performance Review Board will be for a period of twenty-four (24) months.

Dates: The period of appointment for those individuals selected for NTIA's Performance Review Board begins on October 20, 2015. The name, position title, and type of appointment of each member of NTIA's Performance Review Board are set forth below by organization:

Department of Commerce, National Telecommunications and Information Administration (NTIA)

Paige R. Atkins, Associate Administrator for Spectrum Management, Career SES (New Member)

Leonard M. Bechtel, Chief Financial Officer and Director of Administration, Career SES, Chairperson

Evelyn Remaley-Hasch, Deputy Associate Administrator for Policy Analysis and Development, Career SES, Advisor (New Member)

Department of Commerce, National Telecommunications and Information Administration, First Responder Network Authority (NTIA/FirstNet)

Frank Freeman, Chief Administrative Officer, FirstNet, Career SES

Jim Gwinn, Chief Information Officer, FirstNet, Career SES (New Member)

Department of Commerce, Office of the Secretary, Office of the Chief Financial Officer and Assistant Secretary for Administration, Office of the Deputy Chief Financial Officer for Financial Management (OS/CFO/ASA/OFM)

Gordon T. Alston, Director, Financial Reporting and Internal Controls, Career SES (New Member)

Department of Commerce, Office of the Secretary (OS)

Theodore C.Z. Johnston, Director, Office of Business Liaison, Non-Career SES, Political Advisor

Denise A. Yaag,
Director, Office of Executive Resources, Office of Human Resources Management, Office of the Secretary/Office of the CFO/ASA, Department of Commerce.

[FR Doc. 2015-26575 Filed 10-19-15; 8:45 am]

BILLING CODE 3510-25-P